DEPARTMENT OF TRANSPORTATION

National Highway Traffic Safety Administration

[Docket No. NHTSA-99-6324; Notice 1]

EMB Incorporated; Application for Temporary Exemption From Federal Motor Vehicle Safety Standards Nos. 108 and 120

We are asking for comments on the application by EMB Incorporated (“EMB”) of Sebastopol, California, for a 2-year exemption from portions of Federal Motor Vehicle Safety Standard Nos. 108 Lamps, Reflective Devices and Associated Equipment, and 120 Tire Selection and Rims for Motor Vehicles Other Than Passenger Cars. The company does business as Electric Motorbike, Inc., and has petitioned on behalf of its Lectra VR24 motorcycle. In the opinion of the company, a temporary exemption “would make the development or field evaluation of a low-emission motor vehicle easier and would not unreasonably lower the safety level of that vehicle” (49 U.S.C. 30113(b)(3)(B)(iii)).

We are publishing this notice of receipt of the application in accordance with our regulations on temporary exemptions. This action does not mean that we have made any judgment about the merits of the application. The discussion that follows is based on information contained in EMB's application.

Why EMB Needs a Temporary Exemption

The company is developing zero-emission (electric battery-powered) vehicles. Due to a lack of readily-available components for these vehicles needed to comply with Federal Motor Vehicle Safety Standards Nos. 108 and 120, as explained below, EMB must petition for an exemption from portions of them, until July 1, 2001, as explained below.

Why an Exemption Would Make Easier the Development and Field Evaluation of a Low-Emission Motor Vehicle and Would Not Unreasonably Degrade the Safety of That Vehicle

In order to make the company's products available for wider use, EMB believes that a test and development period is required to optimize product features and functions. During the development stage, it is likely that several design changes will be made “to optimize the product for acceptance by the wider public.”

It is important to place a limited number of product in service in order to gain insights into the features, functions and operating characteristics of the product.

In order to do so, the following temporary exemptions are requested:

1. Standard No. 108

EMB utilizes a 24-volt lighting system which presently creates an incompatibility with available lighting equipment, requiring a temporary exemption from three requirements of Standard No. 108.

Table IV of Standard No. 108 requires motorcycle turn signal lamps to meet the applicable requirements of SAE Standard J588NOV84 Turn Signal Lamps. However, S5.1.1.7 of Standard No. 108 provides that “a motorcycle turn signal lamp need meet only one-half of the minimum photometric values specified in Table 1 and Table 3” of SAE J588NOV84. EMB states that “turn signals which operate at this voltage are difficult to locate.” However, it has found a supplier in Spain “which offers European-compliant turn signals for 24-volt operation.” The turn signal unit that the company has found “meets European requirements 50R E9.” EMB believes that the European standard is equivalent to that of S5.1.1.7, e.g., that an exemption would not unduly degrade the safety of the vehicle.

Table III of Standard No. 108 requires motorcycles to be equipped with turn signal lamps and a turn signal operating unit. S5.5.6 requires all vehicles equipped with a turn signal operating unit to also have an illuminated pilot indicator, which will inform the operator when one or more turn signal lamps fails to operate. However, no indication is required if a variable-load turn signal flasher has been installed on a motor vehicle type specified in S5.5.6. A motorcycle is not one of the vehicle types specified, and the Lectra VR24 incorporates a variable load flasher. As noted above, the company uses a 24-volt DC power source for turn signal lamps. Outage indication is not presently available in 24 volt DC flasher units, therefore, the turn signal indicator on the dash board will not indicate a failed lamp.

EMB argues that the open nature of the motorcycle makes it “easy for an operator to check for proper operation of all lights and signals. * * *”

EMB also seeks exemption from certain portions of S7.9 which specifies headlighting requirements for motorcycles. In pertinent part, EMB has chosen to meet the photometric specifications of Figure 32. At the present time, motorcycle headlamps are not available in 24-volt versions, and the company has chosen “a military vehicle headlamp” manufactured by “Wagner Corporation.” This headlamp “does meet requirements for passenger car headlighting systems.” The upper beam of the headlamp meets all requirements for motorcycle headlamp upper beams, and complies with all lower beam test points as well, with the exception of Test Point 2D-3L, where there is a shortfall of 7 percent.

EMB argues that the shortfall does not unreasonably degrade safety because the Lectra VR24 is designed for a cruising speed of 30 mph and the headlamp does meet requirements for this equipment on motor driven cycles.

Finally, the lens of the headlamp will not be marked “motorcycle” as required by S7.9.5 for a headlamp of the type intended to be used.

During the exemption period, EMB plans to develop a lighting system that fully complies with Standard No. 108.

2. Standard No. 120

S5.2 Rim marking of Standard No. 120 requires, in pertinent part, that each rim be embossed or debossed with certain specified information. The wheel that EMB has selected was not embossed with the information at time of manufacture but has been subsequently stamped with indelible ink. All the information is present and in the required location. These wheels meet ISO 8644, ISO 8645, and TUV specifications. EMB will work with suppliers to ensure that future rims are properly marked.

Why Exempting EMB Would Be Consistent With the Public Interest and Objectives of Motor Vehicle Safety

EMB “is developing zero-emission vehicles which are consistent with the goals and desires of society for a cleaner and quieter environment, and reduced reliance on fossil fuels.”

Even with the exemptions requested, EMB believes that the Lectra VR24 exhibits an overall level of safety equivalent to that prescribed by the Federal motor vehicle safety standards.

How To Comment on EMB's Application

If you would like to comment on EMB's application, send two copies of your comments, in writing, to: Docket Management, National Highway Traffic Safety Administration, Room PL-401, 400 Seventh Street, SW, Washington, DC 20590, in care of the docket and notice number shown at the top of this document.

We shall consider all comments received before the close of business on the comment closing date stated below. To the extent possible, we shall also consider comments filed after the closing date. You may examine the docket in Room PL-401, both before and after that date, between 10 a.m. and 5 p.m.

When we have reached a decision, we shall publish it in the Federal Register.

Comment closing date: August 16, 2000.

Authority: 49 U.S.C. 30113; delegations of authority at 49 CFR 1.50 and 501.4.

Issued on: July 11, 2000.
Stephen R. Kratzke,
Associate Administrator for Safety Performance Standards.

[FR Doc. 00-18010 Filed 7-14-00; 8:45 am]

BILLING CODE 4910-59-P